NATIONAL AERONAUTICS AND SPACE ADMINISTRATION

[Notice (05-010)]

Government-Owned Inventions, Available for Licensing

AGENCY: National Aeronautics and Space Administration.

ACTION: Notice of availability of inventions for licensing.

SUMMARY: The inventions listed below assigned to the National Aeronautics and Space Administration, have been filed in the United States Patent and Trademark Office, and are available for licensing.

DATES: March 2, 2006.

FOR FURTHER INFORMATION CONTACT: Robert M. Padilla, Patent Counsel, Ames Research Center, Code 202A-4, Moffett Field, CA 94035-1000; telephone (650) 604-5104; fax (650) 604-2767.

NASA Case No. ARC-15606-1: Re-Entry Vehicle Shape For Enhanced Performance;

NASA Case No. ARC-14586-3: Design Of Optimal Supersonic Airfoil Shapes.

Dated: February 24, 2006.
Keith T. Sefton,
Deputy General Counsel, Administration and Management.

[FR Doc. E6-3003 Filed 3-1-06; 8:45 am]

BILLING CODE 7510-13-P